DEPARTMENT OF ENERGY

Federal Energy Regulatory Commission

Combined Notice of Filings #1

Take notice that the Commission received the following electric corporate filings:

Docket Numbers: EC23-87-000.

Applicants: SR Snipesville III, LLC.

Description: Application for Authorization Under Section 203 of the Federal Power Act of SR Snipesville III, LLC.

Filed Date: 5/8/23.

Accession Number: 20230508-5184.

Comment Date: 5 p.m. ET 5/30/23.

Take notice that the Commission received the following exempt wholesale generator filings:

Docket Numbers: EG23-149-000.

Applicants: Delta's Edge Lessee, LLC.

Description: Delta's Edge Lessee, LLC submits Notice of Self-Certification of Exempt Wholesale Generator Status.

Filed Date: 5/8/23.

Accession Number: 20230508-5180.

Comment Date: 5 p.m. ET 5/30/23.

Take notice that the Commission received the following Complaints and Compliance filings in EL Dockets:

Docket Numbers: EL23-65-000.

Applicants: AB CarVal Investors, L.P., Agilitas Energy, Inc.

Description: Petition for Declaratory Order of Agilitas Energy, Inc. and AB CarVal Investors, L.P.

Filed Date: 5/5/23.

Accession Number: 20230505-5262.

Comment Date: 5 p.m. ET 6/5/23.

Take notice that the Commission received the following electric rate filings:

Docket Numbers: ER18-2303-006; ER10-1246-020; ER10-1252-020; ER11-3987-019; ER11-4055-014; ER12-1566-018; ER12-2498-024; ER12-2499-024; ER13-764-024; ER14-1548-017; ER14-1775-012; ER14-1776-010; ER14-1927-012; ER15-2653-005; ER16-1325-007; ER16-1326-007; ER16-1327-007; ER17-382-009; ER17-383-009; ER17-384-009; ER17-2141-007; ER17-2142-007; ER18-855-008; ER18-1416-008; ER18-2305-005; ER18-2306-004; ER18-2308-005; ER18-2309-005; ER18-2310-005; ER18-2311-005; ER20-2671-006; ER21-425-005; ER21-848-005; ER23-139-003.

Applicants: Pleasant Hill Solar, LLC, Battle Mountain SP, LLC, Copper Mountain Solar 5, LLC, Water Strider Solar, LLC, SF Wind Enterprises, LLC, Rose Wind Holdings, LLC, Rose Creek Wind, LLC, K&K Wind Enterprises, LLC, Garwind, LLC, Bobilli BSS, LLC, CED Wistaria Solar, LLC, Panoche Valley Solar, LLC, Great Valley Solar 2, LLC, Great Valley Solar 1, LLC, CED Ducor Solar 3, LLC, CED Ducor Solar 2, LLC, CED Ducor Solar 1, LLC, Copper Mountain Solar 4, LLC, Mesquite Solar 3, LLC, Mesquite Solar 2, LLC, Campbell County Wind Farm, LLC, CED White River Solar 2, LLC, Broken Bow Wind II, LLC, SEP II, LLC, Copper Mountain Solar 3, LLC, CED White River Solar, LLC, Alpaugh North, LLC, Alpaugh 50, LLC, Copper Mountain Solar 2, LLC, Copper Mountain Solar 1, LLC, Mesquite Solar 1, LLC, RWE Clean Energy Solutions, Inc., RWE Clean Energy Wholesale Services, Inc, Adams Wind Farm, LLC.

Description: Notice of Change in Status of Adams Wind Farm, LLC, et al.

Filed Date: 5/4/23.

Accession Number: 20230504-5221.

Comment Date: 5 p.m. ET 5/25/23.

Docket Numbers: ER22-615-002.

Applicants: Prairie State Solar, LLC.

Description: Compliance filing: Compliance Filing Under ER22-615 to be effective 2/1/2022.

Filed Date: 5/9/23.

Accession Number: 20230509-5020.

Comment Date: 5 p.m. ET 5/30/23.

Docket Numbers: ER22-983-004.

Applicants: ISO New England Inc., New England Power Pool Participants Committee.

Description: Compliance filing: ISO New England Inc. submits tariff filing per 35: Rev in Further Compliance w/Order No. 2222 and Request for Ext of Comp Deadline to be effective 11/1/2026.

Filed Date: 5/9/23.

Accession Number: 20230509-5085.

Comment Date: 5 p.m. ET 5/30/23.

Docket Numbers: ER22-2471-000.

Applicants: Freeport McMoRan Copper & Gold Energy Services LLC.

Description: Supplement to July 21, 2022, Freeport-McMoRan Copper & Gold Energy Service's Request for Renewed Authorization to Undertake Affiliate Sales.

Filed Date: 5/8/23.

Accession Number: 20230508-5187.

Comment Date: 5 p.m. ET 5/30/23.

Docket Numbers: ER23-1234-002.

Applicants: PJM Interconnection, L.L.C.

Description: Tariff Amendment: Amendment of Original WMPA, SA No. 6800; Queue No. AF2-325, Docket No. ER23-1234 to be effective 5/3/2023.

Filed Date: 5/9/23.

Accession Number: 20230509-5025.

Comment Date: 5 p.m. ET 5/30/23.

Docket Numbers: ER23-1272-001.

Applicants: Arizona Public Service Company.

Description: Tariff Amendment: Replacement Generation—Response to Deficiency Letter to be effective 6/1/2023.

Filed Date: 5/9/23.

Accession Number: 20230509-5039.

Comment Date: 5 p.m. ET 5/23/23.

Docket Numbers: ER23-1849-000.

Applicants: PJM Interconnection, L.L.C.

Description: § 205(d) Rate Filing: ISA, SA No. 6889; Queue No. AF1-227 and Cancellation of IISA, SA No. 6061 to be effective 4/6/2023.

Filed Date: 5/8/23.

Accession Number: 20230508-5141.

Comment Date: 5 p.m. ET 5/30/23.

Docket Numbers: ER23-1850-000.

Applicants: Delta's Edge Lessee, LLC.

Description: Baseline eTariff Filing: Baseline new to be effective 5/9/2023.

Filed Date: 5/8/23.

Accession Number: 20230508-5144.

Comment Date: 5 p.m. ET 5/30/23.

Docket Numbers: ER23-1851-000.

Applicants: PJM Interconnection, L.L.C.

Description: § 205(d) Rate Filing: Original ISA, SA No. 6917 and ICSA, SA No. 6918; Queue No. AD1-031 to be effective 7/8/2023.

Filed Date: 5/8/23.

Accession Number: 20230508-5159.

Comment Date: 5 p.m. ET 5/30/23.

Docket Numbers: ER23-1853-000.

Applicants: Southwest Power Pool, Inc.

Description: § 205(d) Rate Filing: Revisions to WEIS Tariff to Clean-Up Use of Defined Terms to be effective 7/9/2023.

Filed Date: 5/9/23.

Accession Number: 20230509-5016.

Comment Date: 5 p.m. ET 5/30/23.

Docket Numbers: ER23-1854-000.

Applicants: Public Service Company of Colorado.

Description: § 205(d) Rate Filing: 2023-5-9 Grand Valley-Ute Hydro DWA 734 0.0.0 to be effective 6/1/2023.

Filed Date: 5/9/23.

Accession Number: 20230509-5022.

Comment Date: 5 p.m. ET 5/30/23.

Docket Numbers: ER23-1855-000.

Applicants: Midcontinent Independent System Operator, Inc.

Description: § 205(d) Rate Filing: 2023-05-09_SA 3391 Ameren IL-Maple Flats Solar Energy Center 3rd Rev GIA (J813) to be effective 4/25/2023.

Filed Date: 5/9/23.

Accession Number: 20230509-5040.

Comment Date: 5 p.m. ET 5/30/23.

Docket Numbers: ER23-1856-000.

Applicants: Arizona Public Service Company.

Description: § 205(d) Rate Filing: Exhibit B Administrative Filing to be effective 11/15/2010.

Filed Date: 5/9/23.

Accession Number: 20230509-5053.

Comment Date: 5 p.m. ET 5/30/23.

Docket Numbers: ER23-1857-000.

Applicants: Antelope Valley BESS, LLC.

Description: Compliance filing: Notice of Succession to be effective 5/10/2023.

Filed Date: 5/9/23.

Accession Number: 20230509-5067.

Comment Date: 5 p.m. ET 5/30/23.

Docket Numbers: ER23-1858-000.

Applicants: Midcontinent Independent System Operator, Inc., ALLETE, Inc.

Description: § 205(d) Rate Filing: Midcontinent Independent System Operator, Inc. submits tariff filing per 35.13(a)(2)(iii: 2023-05-09_SA 4054 MP-GRE T-L IA (Two Islands) to be effective 5/9/2023.

Filed Date: 5/9/23.

Accession Number: 20230509-5072.

Comment Date: 5 p.m. ET 5/30/23.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: May 9, 2023.
Debbie-Anne A. Reese,
Deputy Secretary.

[FR Doc. 2023-10327 Filed 5-12-23; 8:45 am]

BILLING CODE 6717-01-P